DEPARTMENT OF AGRICULTURE

Agricultural Marketing Service

[Doc. No. AMS-FGIS-22-0066]

United States Standards for Beans: Chickpea/Garbanzo Beans

AGENCY: Agricultural Marketing Service, USDA.

ACTION: Notice and request for comments.

SUMMARY: The United States Department of Agriculture's (USDA) Agricultural Marketing Service (AMS) is proposing revision to the U.S. Standards for Beans, pertaining to the grade determining factors Moisture and Contrasting Chickpeas in the class Chickpea/Garbanzo Beans, under the United States Agricultural Marketing Act of 1946, as amended, (AMA). Stakeholders in the bean processing/handling industry requested AMS to amend the grading requirements for Moisture and Contrasting Chickpeas in Chickpea/Garbanzo Beans in the U.S. Bean Standards. To ensure that the bean standards remain relevant, AMS invites interested parties to comment on whether revising the Chickpea/Garbanzo standard will facilitate the marketing of Chickpea/Garbanzo Beans. This action may revise or amend the table of Grades and Grade Requirements for Chickpea/Garbanzo Beans in the U.S. Standard for Beans.

DATES: Comments must be received by December 12, 2022.

ADDRESSES: Interested persons are invited to submit written comments concerning this notice. All comments must be submitted through the Federal e-rulemaking portal at https://www.regulations.gov and should reference the document number and the date and page number of this issue of the Federal Register. Instructions for submitting and reading comments are detailed on the site. All comments submitted in response to this notice will be included in the record and will be made available to the public. Please be advised that the identity of the individuals or entities submitting comments will be made public on the internet at the address provided above.

FOR FURTHER INFORMATION CONTACT: Loren Almond, USDA AMS; Telephone: (816) 702-3925; Email: Loren.L.Almond@usda.gov.

SUPPLEMENTARY INFORMATION: Under the authority of the AMA (7 U.S.C. 1621 -1627), as amended, AMS establishes and maintains a variety of quality and grade standards for agricultural commodities that serve as a fundamental starting point to define commodity quality in the domestic and global marketplace.

Standards developed under the AMA include those for rice, whole dry peas, split peas, feed peas, lentils, and beans. The U.S. standards for whole dry peas, split peas, feed peas, lentils and beans no longer appear in the Code of Federal Regulations but are now maintained by USDA-AMS-Federal Grain Inspection Service (FGIS). The U.S. standards for beans are voluntary and widely used in private contracts, government procurement, marketing communication, and for some commodities, consumer information.

The bean standards facilitate bean marketing and define U.S. bean quality in the domestic and global marketplace. The standards define commonly used industry terms; contain basic principles governing the application of standards such as the type of sample used for a particular quality analysis; the basis of determination; and specify grades and grade requirements. Official procedures for determining grading factors are provided in the Bean Inspection Handbook. Together, the grading standards and testing procedures allow buyers and sellers to communicate quality requirements, compare bean quality using equivalent forms of measurement, and assist in price discovery.

AMS engages in outreach with stakeholders to ensure commodity standards maintain relevance to the modern market. Stakeholders, including the U.S.A. Dry Pea and Lentil Council (USA DPLC), requested AMS revise the Chickpea/Garbanzo Bean criteria for the grade determining factors Moisture and Contrasting Chickpeas.

Currently, Chickpeas/Garbanzo Beans are assigned the Special Grade, “High Moisture” when the moisture content exceeds 18.0 percent. Contrasting Chickpeas over 5.0 percent cause the Chickpea/Garbanzo Beans to be considered U.S. Substandard Chickpea/Garbanzo Beans. AMS-FGIS proposes to revise the bean inspection criteria in the U.S. Standards for Beans and revise the Bean Inspection Handbook, by amending the criteria requirements for Moisture and Contrasting Chickpea/Garbanzo Beans.

Moisture Determination in Chickpea/Garbanzo Beans

Representatives of bean industry stakeholders contacted AMS-FGIS to discuss the issues of high moisture in Chickpea/Garbanzo Beans. Stakeholders stated that 18.0 percent moisture is too high to properly store and maintain Chickpea/Garbanzo Beans. FGIS pointed out that moisture content is often a contract specification. During meetings and discussions, bean stakeholders recommended revising the Chickpea/Garbanzo Bean moisture content downward from 18.0 percent to 14.0 percent when applying the special grade criteria High Moisture. Therefore, Chickpea/Garbanzo Beans with more than 14.0 percent moisture would be designated as Special Grade, “High Moisture.”

Contrasting Chickpea/Garbanzo Beans

Stakeholders stated that designating Chickpea/Garbanzo Beans with more than 5.0 percent Contrasting Chickpeas as U.S. Substandard is illogical because the entire sample of beans is still considered Chickpea/Garbanzo Beans, regardless of its U.S. Substandard designation due to contrast. During meetings and discussions, bean stakeholders communicated the need to revise the standard by changing the grade criteria for Contrasting Chickpeas in Chickpea/Garbanzo Beans. Stakeholders suggested changing the 5.0 percent Contrasting Chickpea/Garbanzo Bean maximum limit for U.S. No. 3 to “>2.0 percent.” Therefore, Chickpea/Garbanzo Beans found to contain more than 2.0 percent Contrasting Chickpeas may be designated as U.S. No. 3 but shall grade no higher than U.S. No. 3. Contrasting Chickpea grading criteria for U.S. No. 1 and U.S. No. 2 would remain unchanged.

This revision would assist in moving the U.S. Bean market towards fewer quality complaints and serve to ensure consistent grading results across the nation. These changes were recommended to AMS by the stakeholder organizations identified in the background section of this notice to facilitate the current marketing practices.

AMS grading and inspection services, provided through a network of federal, state, and private laboratories, conduct tests to determine the quality and condition of Beans. These tests are conducted in accordance with applicable standards using approved methodologies and can be applied at any point in the marketing chain. Furthermore, these tests yield rapid, reliable, and consistent results. The U.S. Standards for Beans and the affiliated grading and testing services offered by AMS verify that a seller's Beans meet specified requirements and ensure that customers receive the quality purchased.

In order for U.S. standards and grading procedures for beans to remain relevant, AMS is issuing this request for information to invite interested parties to submit comments on the proposal to amend U.S. Standards for Beans pertaining to the class Chickpea/Garbanzo Beans, and to revise the Bean Inspection Handbook accordingly.

Proposed AMS Action

Based on input from stakeholder organizations in the bean industry, AMS proposes to amend the U.S. Standards for Beans by revising the criteria for Special Grade High Moisture and the grade determining factor “Contrasting Chickpeas” in Chickpea/Garbanzo Beans. As a result, Chickpeas/Garbanzo Beans with more than 14.0 percent moisture would be considered Special Grade, “High Moisture.” Contrasting Chickpeas over 2.0 percent will no longer be considered U.S. Substandard Chickpea/Garbanzo Beans, but instead would grade no higher than U.S. No. 3 Chickpea/Garbanzo Beans. AMS would revise the Bean Inspection Handbook to reflect these changes.

AMS is accepting comments on this proposed action for 60 days. All comments received within the comment period will be made part of the public record maintained by AMS, will be available to the public for review, and will be considered by AMS before a final action is taken on this proposal.

Authority: 7 U.S.C. 1621-1627.

Melissa Bailey,
Associate Administrator, Agricultural Marketing Service.

[FR Doc. 2022-22109 Filed 10-11-22; 8:45 am]

BILLING CODE P